NUCLEAR REGULATORY COMMISSION

[Docket Nos. 50-321 and 50-366]

Southern Nuclear Operating Company (SNC); Notice of Withdrawal of Application for Amendment to Renewed Facility Operating License

The U.S. Nuclear Regulatory Commission (the Commission) has granted the request of SNC (the licensee) to withdraw its application dated July 20, 2004, for a proposed amendment to Renewed Facility Operating License Nos. DPR-57 and NPF-5 for the Edwin I. Hatch Nuclear Plant, Units 1 and 2, respectively, located in Appling County, Georgia.

The proposed amendment would have revised the Administrative Controls Section 5.3.1 of the technical specifications and replaced the specific designation for the Health Physics Superintendent with a reference to the senior individual in charge of Health Physics, and to add flexibility to the qualification requirements for the unit staff positions.

The Commission had previously issued a Notice of Consideration of Issuance of Amendment published in the Federal Register on September 28, 2004 (69 FR 57993). However, by letter dated June 27, 2005, the licensee withdrew the proposed change.

For further details with respect to this action, see the application for amendment dated July 20, 2004, and the licensee's letter dated June 27, 2005, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS, should contact the NRC PDR Reference staff by telephone at 1-800-397-4209, or 301-415-4737 or by e-mail to pdr@nrc.gov.

Dated at Rockville, Maryland, this 29th day of June, 2005.
For the Nuclear Regulatory Commission.
Christopher Gratton,
Senior Project Manager, Section 1, Project Directorate II, Division of Licensing Project Management, Office of Nuclear Reactor Regulation.

[FR Doc. E5-3632 Filed 7-8-05; 8:45 am]

BILLING CODE 7590-01-P